COMMITTEE FOR PURCHASE FROM PEOPLE WHO ARE BLIND OR SEVERELY DISABLED

Procurement List; Proposed Additions and Deletion

AGENCY: Committee for Purchase from People Who Are Blind or Severely Disabled.

ACTION: Proposed Additions to and Deletions from Procurement List.

SUMMARY: The Committee is proposing to add to the Procurement List services to be furnished by nonprofit agencies employing persons who are blind or have other severe disabilities, and to delete a service previously furnished by such agencies.

DATES: Comments must be received on or before July 20, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

(End of Certification)

The following services are proposed for addition to Procurement List for production by the nonprofit agencies listed:

Services

Service Type/Location: Administrative Services, INS, Secure Electronic Network for the Travelers' Rapid Inspection, (SENTRI) Enrollment Center), Otay Mesa, California.

NPA: Job Options, Inc., San Diego, California.

Contract Activity: Immigration and Naturalization Service, DOJ.

Service Type/Location: Catering Service, Military Entrance Processing Station, Albany, New York.

NPA: Albany County Chapter, NYSARC, Inc., Slingerlands, New York.

Contract Activity: Directorate of Contracting, Fort Knox, Kentucky.

Service Type/Location: Custodial Service; Aguadilla Customhouse, Aguadilla, Puerto Rico, CARIT Building, Guynabo, Puerto Rico, Cruise Ship Piers (1, 4, 6 & Front Pier), Old San Juan, Puerto Rico, Fajardo Customhouse, Fajardo, Puerto Rico, ICAT Airport, Louis Munoz Marin International Airport, Carolina, Puerto Rico, Isla Grande Airport, Isla Grande, Puerto Rico, Mayaguez Customhouse, Mayaguez, Puerto Rico, Mayaguez Warehouse, Mayaguez, Puerto Rico, Miramar Customhouse, San Juan, Puerto Rico, Panamerican Dock, Isla Grande, Puerto Rico, Ponce Customhouse, Ponce, Puerto Rico, San Juan Customhouse, San Juan, Puerto Rico.

NPA: The Corporate Source, Inc., New York, New York.

Contract Activity: U.S. Customs Service, Indianapolis, Indiana.

Service Type/Location: Janitorial & Related Services, New Federal Building, Youngstown, Ohio.

NPA: Youngstown Area Goodwill Industries, Youngstown, Ohio.

Contract Activity: GSA, Public Buildings Service (5P), Chicago, Illinois.

Service Type/Location: Janitorial/Custodial; Fort Shafter (Buildings 344 and 1507), Hawaii, Schofield Barracks (Buildings 690, 692 and 1087), Hawaii.

NPA: Network Enterprises, Inc., Honolulu, Hawaii.

Contract Activity: U.S. Army Support Command, Fort Shafter, Hawaii.

Service Type/Location: Office Supply Store, Department of Housing and Urban Development, St. Louis, Missouri.

NPA: Alphapointe Association for the Blind, Kansas City, Missouri.

Contract Activity: U.S. Department of Housing and Urban Development, St. Louis, Missouri.

Deletion

Regulatory Flexibility Act Certification

I certify that the following action will not have a significant impact on a substantial number of small entities. The major factors considered for this certification were:

1. If approved, the action will not result in any additional reporting, recordkeeping or other compliance requirements for small entities.

2. If approved, the action will result in authorizing small entities to furnish the service to the Government.

3. There are no known regulatory alternatives which would accomplish the objectives of the Javits-Wagner-O'Day Act (41 U.S.C. 46-48c) in connection with the service proposed for deletion from the Procurement List.

(End of Certification)

The following service is proposed for deletion from the Procurement List:

Service

Service Type/Location: Operation of Self Service Supply Store, General Services Administration, Sam Nunn Federal Center, Atlanta, Georgia.

NPA: Raleigh Lions Clinic for the Blind, Inc., Raleigh, North Carolina.

Contract Activity: General Services Administration, Atlanta, Georgia.

Sheryl D. Kennerly,
Director, Information Management.

[FR Doc. 03-15630 Filed 6-19-03; 8:45 am]

BILLING CODE 6353-01-P